SECURITIES AND EXCHANGE COMMISSION

[File No. 500-1]

In the Matter of E-Sync Networks, Inc. (n/k/a ESNI, Inc.), EchoCath, Inc., Edison Brothers Stores, Inc., Electronic Technology Group, Inc. (n/k/a SolutionNet International, Inc.), EMCEE Broadcast Products, Inc., ERD Waste Corp., Eurasia Gold Fields, Inc., European Micro Holdings, Inc., and Exotech, Inc.; Order of Suspension of Trading

July 14, 2010.

It appears to the Securities and Exchange Commission that there is a lack of current and accurate information concerning the securities of E-Sync Networks, Inc. (n/k/a ESNI, Inc.) because it has not filed any periodic reports since the period ended December 31, 2001.

It appears to the Securities and Exchange Commission that there is a lack of current and accurate information concerning the securities of EchoCath, Inc. because it has not filed any periodic reports since the period ended May 31, 2001.

It appears to the Securities and Exchange Commission that there is a lack of current and accurate information concerning the securities of Edison Brothers Stores, Inc. because it has not filed any periodic reports since October 31, 1998.

It appears to the Securities and Exchange Commission that there is a lack of current and accurate information concerning the securities of Electronic Technology Group, Inc. (n/k/a SolutionNet International, Inc.) because it has not filed any periodic reports since the period ended April 30, 1994.

It appears to the Securities and Exchange Commission that there is a lack of current and accurate information concerning the securities of EMCEE Broadcast Products, Inc. because it has not filed any periodic reports since the period ended September 30, 2002.

It appears to the Securities and Exchange Commission that there is a lack of current and accurate information concerning the securities of ERD Waste Corp. because it has not filed any periodic reports since the period ended June 30, 1997.

It appears to the Securities and Exchange Commission that there is a lack of current and accurate information concerning the securities of Eurasia Gold Fields, Inc. because it has not filed any periodic reports since the period ended September 30, 2004.

It appears to the Securities and Exchange Commission that there is a lack of current and accurate information concerning the securities of European Micro Holdings, Inc. because it has not filed any periodic reports since the period ended June 30, 2007.

It appears to the Securities and Exchange Commission that there is a lack of current and accurate information concerning the securities of Exotech, Inc. because it has not filed any periodic reports since the period ended March 31, 2002.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on July 14, 2010, through 11:59 p.m. EDT on July 27, 2010.

By the Commission.
Elizabeth M. Murphy,
Secretary.

[FR Doc. 2010-17495 Filed 7-14-10; 4:15 pm]

BILLING CODE 8010-01-P